DEPARTMENT OF COMMERCE

Census Bureau

2002 Economic Census Covering the Mining Sector

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 18, 2002.

ADDRESSES: Direct all written comments to Madeleine Clayton, Departmental Paperwork Clearance Officer, Department of Commerce, Room 6086, 14th and Constitution Avenue, NW., Washington, DC 20230 (or via the Internet at MClayton@doc.gov).

FOR FURTHER INFORMATION CONTACT: Requests for additional information or copies of the information collection instrument(s) and instructions should be directed to Patricia L. Horning, U.S. Census Bureau, Manufacturing and Construction Division, (301) 457-4680, Room 2229, Building #4, Washington, DC 20233 (or via the Internet patricia.l.horning@census.gov).

SUPPLEMENTARY INFORMATION:

I. Abstract

The Census Bureau is the preeminent collector and provider of timely, relevant and quality data about the people and economy of the United States. Economic data are the Census Bureau's primary program commitment during nondecennial census years. The economic census, conducted under authority of Title 13, U.S.C., is the primary source of facts about the structure and functioning of the Nation's economy and features unique industry and geographic detail. Economic census statistics serve as part of the framework for the national accounts and provide essential information for government, business and the general public. The 2002 Economic Census Covering the Mining Sector (as defined by the North American Industry Classification System (NAICS)) will measure the economic activity of almost 25,000 mineral establishments.

The information collected from establishments in this sector of the economic census will produce basic statistics for number of establishments, shipments, payroll, employment, detailed supplies and fuels consumed, depreciable assets, inventories, and capital expenditures. It also will yield a variety of subject statistics, including shipments by product line, type of operation, size of establishments and other industry-specific measures.

Primary strategies for reducing burden in Census Bureau economic data collections are to increase electronic reporting through broader use of computerized self-administered census questionnaires, on-line questionnaires and other electronic data collection.

II. Method of Collection

The mining industry sector of the economic census will select establishments for their mail canvass from a frame given by the Census Bureau's Business Register. To be eligible for selection, an establishment will be required to satisfy the following conditions: (i) It must be classified in the mining sector; (ii) it must be an active operating establishment of a multi-establishment firm (including operations under exploration and development), or it must be a single-establishment firm with payroll; and (iii) it must be located in one of the 50 states, offshore areas, or the District of Columbia. Mail selection procedures will distinguish the following groups of establishments:

A. Establishments of Multi-Establishment Firms

Selection procedures will assign all active mineral establishments of multi-establishment firms to the mail component of the potential respondent universe, except for those in industries classified in the Support Activities for Mining subsector. In these selected industries, where activities are not easily attributable to individual locations or establishments, firms will be asked to report their basic data for several establishments at a nationwide level on a consolidated report form . Approximately 7 percent of establishments of multi-establishment firms will not be required to file separate reports because they will be included in consolidated company reports. We estimate that the census mail canvass for 2002 will include approximately 7,000 establishments of multi-establishment firms.

B. Single-Establishment Firms With Payroll

As an initial step in the selection process, we will conduct a study of the potential respondent universe for mining. The study of potential respondents will produce a set of industry-specific payroll cutoffs that we will use to distinguish large versus small single-establishment firms within each industry. This payroll size distinction will affect selection as follows:

1. Large Single-Establishment Firms

Selection procedures will assign large single-establishment firms having annualized payroll (from Federal administrative records) that equals or exceeds the cutoff for their industry to the mail component of the potential respondent universe. We estimate that the census mail canvass for 2002 will include approximately 5,200 firms in this category. These firms will receive a standard form.

2. Small Single-Establishment Firms

We will send a short form to small single-establishment firms in the crushed stone, sand and gravel, and crude petroleum and natural gas industries where application of the cutoff for nonmail establishments results in a larger number of small establishments included in the mail canvass. The short form will collect basic statistics and other essential information that is not available from administrative records.

The short form will be mailed to approximately 2,300 single-establishment firms in these industries which are larger than the nonmail cutoff for their industry, but which have annual payroll under a certain criteria. In terms of employment, this criteria will identify establishments with approximately 5 to 19 employees.

All remaining single-establishment firms with payroll will be represented in the census by data from Federal administrative records. We will not include approximately 10,000 of these small employers in the census mail canvass.

III. Data

OMB Number: Not available.

Form Number: The forms used to collect information from establishments in this sector of the economic census are tailored to specific mining operations and are too numerous to list separately in this notice. You can obtain information on the proposed content of the forms by calling Patricia L. Horning on (301) 457-4680 (or via the Internet at patricia.l.horning@census.gov).

Type of Review: Regular review.

Affected Public: Business or Other for Profit, Non-profit Institutions, Small Businesses or Organizations, and State or Local Governments.

Estimated Number of Respondents:
Standard Form | 12,200.
Short Form | 2,300.
Total | 14,500.
Estimated Time Per Response:
Standard Form | 4.1 hours.
Short Form | 2.2 hours.
Estimated Total Annual Burden Hours:
Standard Form | 50,020.
Short Form | 5,060.
Total | 55,080.

Estimated Total Annual Cost: $843,826.

Respondent's Obligation: Mandatory.

Legal Authority: Title 13, United States Code, sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 14, 2001.
Madeleine Clayton,
Departmental Paperwork Clearance Officer, Office of the Chief Information Officer.

[FR Doc. 01-28820 Filed 11-16-01; 8:45 am]

BILLING CODE 3510-07-P